DEPARTMENT OF THE INTERIOR

Fish and Wildlife Service

[FWS-R3-ES-2012-N158; FXES11130300000F3-123-FF03E00000]

Endangered and Threatened Wildlife and Plants; Permit Applications

AGENCY: Fish and Wildlife Service, Interior.

ACTION: Notice of availability of permit applications; request for comments.

SUMMARY: We, the U.S. Fish and Wildlife Service (USFWS), invite the public to comment on the following applications to conduct certain activities with endangered species. With some exceptions, the Endangered Species Act (Act) prohibits activities with endangered and threatened species unless a Federal permit allows such activity. The Act requires that we invite public comment before issuing these permits.

DATES: We must receive any written comments on or before August 1, 2012.

ADDRESSES: Send written comments by U.S. mail to the Regional Director, Attn: Lisa Mandell, U.S. Fish and Wildlife Service, Ecological Services, 5600 American Blvd. West, Suite 990, Bloomington, MN 55437-1458; or by electronic mail to permitsR3ES@fws.gov.

FOR FURTHER INFORMATION CONTACT: Lisa Mandell, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE77310A.

Applicant: Michael S. Fishman, Barton & Loguidice, Syracuse, NY.

The applicant requests a permit to take (capture and release) the endangered Indiana bat (Myotis sodalis) within the State of Ohio. Proposed activities are for the enhancement of survival of the species in the wild through project planning to avoid impacts to the species.

Permit Application Number: TE77313A.

Applicant: Egret Environmental Consulting, LLC, Athens, OH.

The applicant requests a permit to take the following species: Indiana bats, gray bats (Myotis grisescens), Hine's emerald dragonfly (Somatochlora hineana), American burying beetle (Nicrophorus americanus), and Mitchell's satyr butterfly (Neonympha mitchellii mitchellii) for the purpose of enhancement of the survival of the species in the wild. Proposed activities may occur within the following States: Alabama, Georgia, Illinois, Indiana, Iowa, Kentucky, Michigan, Missouri, New Jersey, New York, North Carolina, Ohio, Oklahoma, Pennsylvania, South Carolina, Tennessee, Virginia, West Virginia, and Wisconsin.

Permit Application Number: TE120231.

Applicant: John C. Timpone, Coeur d'Alene, ID.

The applicant requests a permit renewal, with amendments, to take Indiana bats, gray bats, lesser long nose bats, Virginia big-eared bats (Corynorhinus townsendii virginianus) and Ozark big-eared bats (Corynorhinus townsendii ingens) within Alabama, Arizona, Arkansas, Connecticut, Delaware, Georgia, Illinois, Indiana, Iowa, Kentucky, Maryland, Massachusetts, Michigan, Mississippi, Missouri, New Hampshire, New Jersey, New York, North Carolina, Ohio, Oklahoma, Pennsylvania, South Carolina, Tennessee, Vermont, Virginia, West Virginia, and Wisconsin. Proposed activities are for the recovery of the species and enhancement of survival of the species in the wild.

Permit Application Number: TE66634A.

Applicant: U.S. Army Corps of Engineers, Memphis District, Memphis, TN.

The applicant requests a permit amendment to add Higgins' eye pearly mussels (Lampsilis higginsii) and winged mapleleaf mussels (Quadrula fragosa) to their list of covered species and to work within Iowa and Wisconsin. Proposed activities would expand the applicant's authority to conduct aquatic surveys for endangered and threatened mussel species to monitor populations for the recovery and enhancement of survival of the species in the wild.

Permit Application Number: TE77530A.

Applicant: Douglas J. Kapusinski, Chagrin Valley Engineering, Cleveland, OH.

The applicant requests a permit to take (capture and release) threatened and endangered mussel species in Ohio. Proposed activities include conducting of surveys to determine presence, abundance, density, and size structure for the enhancement of survival of the species in the wild.

Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: June 22, 2012.
Lynn Lewis,
Assistant Regional Director, Ecological Services, Midwest Region.

[FR Doc. 2012-16095 Filed 6-29-12; 8:45 am]

BILLING CODE 4310-55-P